DEPARTMENT OF AGRICULTURE

Natural Resources Conservation Service

Notice of a Finding Of No Significant Impact (FONSI) for the Stony Creek Watershed, Clinton and Ionia Counties, Michigan

AGENCY: Natural Resources Conservation Service.

ACTION: Notice of a Finding Of No Significant Impact.

SUMMARY: Pursuant to section 102(2)(c) of the National Environmental Policy Act of 1969; the Council on Environmental Quality Regulations (40 CFR part 1500); and the Natural Resources Conservation Service Regulations (7 CFR part 650); the Natural Resources Conservation Service, U.S. Department of Agriculture, gives notice than an environmental impact statement is not being prepared for the Stony Creek Watershed, Clinton and Ionia Counties, Michigan.

DATES: Comment will be received until on or before December 4, 2000.

FOR FURTHER INFORMATION CONTACT: Alan G. Herceg, Assistant State Conservationist, Natural Resources Conservation Service, Michigan State Office, 300l Coolidge Road, Suite 250, East Lansing, Michigan 48823-6350, telephone 517-324-5282.

SUPPLEMENTARY INFORMATION: The environmental assessment of this federally assisted action indicates that the project will not cause significant local, regional, or national impacts on the environment. As a result of these findings, Ronald C. Williams, State Conservationist, has determined that the preparation and review of an environmental impact statement are not needed for this project.

The project purpose is watershed protection. Project measures include the installation of conservation practices by private land users to reduce soil and water resource problems. Accelerated financial and technical assistance will be available for land treatment.

The Notice of a Finding Of No Significant Impact has been forwarded to the Environmental Protection Agency and to various Federal, State, and local agencies and interested parties. A limited number of copies of the FONSI are available to fill single copy requests at the above address. Basic data developed during the environmental assessment are on file and may be reviewed by contacting Alan G. Herceg.

(This activity is listed in the Catalog of Federal Domestic Assistance under NO. 10.904, Watershed and Flood Prevention, and is subject to the provisions of Executive Order 12372, which requires intergovernmental consultation with State and local officials.)

Dated: October 18, 2000.
Ronald C. Williams,
State Conservationist, East Lansing, Michigan.

[FR Doc. 00-28069 Filed 11-1-00; 8:45 am]

BILLING CODE 3410-16-P